DEPARTMENT OF AGRICULTURE

Farm Service Agency

Request for Extension and Revision of a Currently Approved Information Collection; Disaster Set-Aside Program

AGENCY: Farm Service Agency, USDA.

ACTION: Notice and Request for Comments.

SUMMARY: In accordance with the Paperwork Reduction Act of 1995, this notice announces the intent of the Farm Service Agency (FSA) to request approval for an extension and revision of the information collection package currently used in support of the FSA Farm Loan Programs (FLP).

DATES: Comments on this notice must be received on or before January 13, 2006 to be assured consideration.

FOR FURTHER INFORMATION CONTACT: Michael Cumpton, USDA, Farm Service Agency, Loan Servicing and Property Management Division, 1400 Independence Avenue, SW., STOP 0523, Washington, DC 20250-0523; Telephone (202) 690-4014; Electronic mail: mike.cumpton@wdc.usda.gov.

SUPPLEMENTARY INFORMATION: Title: Disaster Set-Aside Program.

OMB Control Number: 0560-0164.

Expiration Date of Approval: May 31, 2006.

Type of Request: Extension and revision of a Currently Approved Information Collection.

Abstract: The DSA program is designed to assist borrowers in financial distress that operated a farm or ranch in a political subdivision, typically a county that was declared or designated a disaster area. DSA allows eligible borrowers who are unable to make payments to quickly eliminate their immediate financial stress. Under this program, FSA Farm Loan Program (FLP) borrowers can receive immediate financial relief by moving one annual installment for each loan to the end of the loan term. FSA will collect information on the borrower's asset values, expenses and income.

While no changes to the program are proposed, FSA is reducing the projected annual hours of burden form 4,638 to 2,000 based on the average number of responses during the fiscal years 2003-2005.

Estimate of Annual Burden: Public reporting burden for this collection of information is estimated to average 2.5 hours per response.

Respondents: Individuals or households, businesses or other for profit and farms.

Estimated Number of Respondents: 800.

Estimated Number of Responses per Respondent: 1.

Estimated Total Annual Burden on Respondents: 2,000.

Comments are invited on the following: (a) Whether the collection of information is necessary for the proper performance of the functions of the agency, including whether the information will have practical utility; (b) the accuracy of the agency's estimate of burden, including the validity of the methodology and assumptions used; (c) ways to enhance the quality, utility and clarity of the information to be collected; (d) ways to minimize the burden of the collection of information on those who are to respond, including through the use of appropriate automated, electronic, mechanical, or other technological collection techniques or other forms of information technology. These comments should be sent to the Desk Officer for Agriculture, Office of Information and Regulatory Affairs, Office of Management and Budget, Washington, DC 20503 and to Michael Cumpton, Senior Loan Officer, USDA, Farm Service Agency, Loan Servicing and Property Management Division, 1400 Independence Avenue, SW., STOP 0523, Washington, DC 20250-0523.

Comments will be summarized and included in the request for Office of Management and Budget approval of the information collection. All comments will also become a matter of public record.

Signed in Washington, DC on November 3, 2005.
Teresa Lasseter,
Administrator, Farm Service Agency.

[FR Doc. 05-22553 Filed 11-10-05; 8:45 am]

BILLING CODE 3410-05-P